DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Mandatory Shrimp Vessel and Gear Characterization Survey.

OMB Control Number: 0648-0542.

Form Number(s): None.

Type of Request: Regular (extension of a currently approved information collection).

Number of Respondents: 1,441.

Average Hours per Response: 30 minutes.

Burden Hours: 721.

Needs and Uses: This request is for extension of a current information collection.

The Magnuson-Stevens Fishery Conservation and Management Act (Magnuson-Stevens Act) authorizes the Gulf of Mexico Fishery Management Council (Council) to prepare and amend fishery management plans (FMPs) for any fishery in Federal waters under its jurisdiction. NMFS and the Council manage the shrimp fishery in the Federal waters of the Gulf of Mexico (Gulf) under the FMP for the Shrimp Fishery of the Gulf. The regulations for the Gulf Shrimp Vessel and Gear Characterization Form may be found at 50 CFR 622.51(a)(3).

Owners or operators of vessels applying for or renewing a commercial vessel permit for Gulf shrimp must complete an annual Gulf Shrimp Vessel and Gear Characterization Form. NMFS provides the form at the time of permit application and renewal. Compliance with this reporting requirement is required for permit issuance and renewal.

Affected Public: Business or other for-profit organization; individuals or households.

Frequency: Annually.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: January 27, 2017.
Sarah Brabson,
NOAA PRA Clearance Officer.

[FR Doc. 2017-02133 Filed 1-31-17; 8:45 am]

BILLING CODE 3510-22-P